DEPARTMENT OF HEALTH AND HUMAN SERVICES

Centers for Disease Control and Prevention

Reorganization of the Office of the Chief of Staff

AGENCY: Centers for Disease Control and Prevention (CDC), the Department of Health and Human Services (HHS).

ACTION: Notice.

SUMMARY: CDC has modified its structure. This notice announces the reorganization of the Office of the Chief of Staff (OCS). OCS has retitled components and updated mission and function statements.

DATES: This reorganization of OCS was approved by the Director of CDC and became effective on June 20, 2024.

FOR FURTHER INFORMATION CONTACT: Victoria Hunter, Centers for Disease Control and Prevention, 1600 Clifton Road NE, MS H21-12, Atlanta, GA 30329. Telephone 404-639-7124; Email: vdp5@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 89 FR 19832, dated March 20, 2024) is amended to reflect the reorganization of Office of the Chief of Staff, Immediate Office of the Director, Centers for Disease Control and Prevention. Specifically, the changes are as follows:

I. Under Part C, Section C-B, Organization and Functions, make the following changes:

• Retitle and update the mission/function statement for the Advance Team Activity to the Scheduling and Advance Team (CAT12)

• Retitle and update the mission/function statement for the Budget and Operations Management Activity to the Budget and Operations Management Team (CAT13)

• Retitle and update the mission/function statement for the Policy, Performance, and Communication Activity to the Policy, Performance, and Coordination Team (CAT16)

• Update the mission statement for the Office of the Executive Secretariat (CATC)

II. Under Part C, Section C-B, Organization and Functions, after the Office of the Chief of Staff (CAT) delete the mission or functional statements for and replace with the following: Office of the Director (CAT1). (1) directs, manages, and coordinates the activities of OCS; (2) provides leadership and direction to the Immediate Office of the Director (IOD); (3) develops goals and objectives for OCS, including enterprise risk management oversight; (4) manages, prepares for, and conducts executive and senior level meetings, while identifying, triaging, and tracking subsequent action items; (5) serves as the primary point of contact for the CDC Foundation, including engagement of CDC leadership and coordination of key priorities; (6) serves as the IOD liaison during a CDC Emergency Operations Center (EOC) activation; (7) manages OCS communication activities both internal and external; and (8) leads special projects for the CDC Director.

Scheduling and Advance Team (CAT12). (1) coordinates and manages the CDC Director's schedule and supports the development of briefing materials for the director; (2) ensures the director's schedule is closely aligned with the agency's priorities and goals; (3) coordinates key partner requests and visits for the CDC Director including senior leadership appearances at meetings, speaking engagements, and other external events; and (4) manages special events and high-level visits.

Budget and Operations Management Team (CAT13). (1) manages the IOD and OCS budget, and serves as liaison for budget activities within CDC; (2) coordinates the development, implementation (including spending plan) tracking, and reporting of the OCS budget; (3) oversees and executes administrative functions for IOD and OCS, including recruitment, personnel actions, performance management, contracts and grants, training and employee development, travel, space requests and allocation, and procurement and distribution of equipment and supplies; (4) ensures documents are maintained according to CDC's records retention policies and transferred to the National Archives and Records Administration, according to pertinent statutes and guidelines; and (5) manages Freedom of Information Act requests.

Policy, Performance, and Coordination Team (CAT16). (1) coordinates, develops, and implements strategic planning and tracking for OCS; (2) provides management and oversight of the Advisory Committee to the Director, its subcommittees and workgroups; (3) provides support to principals within the IOD; (4) participates in reviewing legislation, briefing documents, congressional testimony, and other legislative matters in coordination with the Office of Policy, Performance, and Evaluation (OPPE) and CDC Washington; (5) serves as primary contact for CIO Associate Directors for Policy for OCS requests; (6) oversees the OCS DEIAB Council and priority action items; (7) serves as enterprise risk management champion for OCS; (8) manages agency-wide data calls; and (9) executes special projects as directed by the Chief of Staff.

Office of the Executive Secretariat (CATC). (1) manages the director's briefing materials; (2) coordinates the use of the official CDC/ATSDR- controlled correspondence tracking system throughout CDC; (3) cultivates strong relationships to facilitate effective coordination across CDC and with HHS Executive Secretariat; (4) conducts final clearance and quality assurance/control of controlled correspondence, select non-scientific policy documents, reports to Congress, including other HHS operating division documents that require the approval of CDC IOD leadership; (5) manages and coordinates correspondence signed by or signed on behalf of the CDC Director; (6) communicates with HHS Policy Coordinator on critical issues on behalf of OCS and serves as the point of contact with the HHS Executive Secretariat for status of Secretary's controlled correspondence of non-scientific documents; (7) processes, triages, assigns, and monitors incoming correspondence for the CDC Director and IOD leadership; (8) serves as official record keeper for the CDC Director's correspondence and non-scientific policy documents; (9) develops and submits the weekly White House Report; (10) manages the electronic signature of the IOD executives on documents requiring official signature; (11) manages the clearance of agency decision memos; and (12) ensures consistent application of CDC correspondence standards and styles.

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2024-15100 Filed 7-9-24; 8:45 am]

BILLING CODE 4163-18-P